DEPARTMENT OF AGRICULTURE

Forest Service

Information Collection; Land Management Agency Volunteer Surveys

AGENCY: Forest Service, USDA.

ACTION: Notice; request for comment.

SUMMARY: In accordance with the Paperwork Reduction Act of 1995, the Forest Service is seeking comments from all interested individuals and organizations on the new information collection, the Land Management Agency Volunteer Surveys.

DATES: Comments must be received in writing on or before November 15, 2010 to be assured of consideration. Comments received after that date will be considered to the extent practicable.

ADDRESSES: Comments concerning this notice should be addressed to James Absher, Forest Service, U.S. Department of Agriculture, 4955 Canyon Crest Drive, Riverside, CA 92507. Comments also may be submitted via e-mail to: jabsher@fs.fed.us.

The public may inspect comments received at Forest Service Reception, 4955 Canyon Crest Drive, Riverside, CA during normal business hours. Visitors are encouraged to call ahead to 951-680-1500 to facilitate entry to the building.

FOR FURTHER INFORMATION CONTACT: James Absher, Pacific Southwest Research Station at 951-680-1500. Individuals who use telecommunication devices for the deaf (TDD) may call the Federal Relay Service (FRS) at 1-800-877-8339, between 8 a.m. and 8 p.m., Eastern Standard Time, Monday through Friday.

SUPPLEMENTARY INFORMATION: Title: Land Management Agency Volunteer Surveys.

OMB Number: 0596-New.

Type of Request: New.

Abstract: The Forest Service, U.S. Department of Agriculture, and contracted researchers will contact individuals who currently volunteer, or have recently volunteered, for selected natural resource (land) management agencies (LMA). Through a short Web-based survey, respondents will provide information regarding how often and why they volunteer, the positive and negative aspects of that experience, and basic socio-demographics. The results of this information collection will help researchers and managers improve their ability to provide land management services to the public, as well as strengthen volunteers' experiences at their respective agencies.

Participation in the survey will be strictly voluntary. If necessary, respondents will be allowed to answer via postal mail at their convenience. A Forest Service researcher, agency technician, or a contracted researcher will collect and analyze the data.

Additionally, in order to ensure anonymity, personal information will not be stored with contact information at any time, and contact information will be purged from researcher files once data collection is complete.

Responses will be used to assess volunteers' experience with agencies that have a land management function such as parks, forests, recreation areas, or wildlife refuges. Although an abundance of research exists regarding volunteering in general, there is very little rigorous, academic research on volunteering as it applies to LMAs, largely because there is no reliable, uniform, and comprehensive data available. Further, it is unknown whether the findings emerging from other studies of volunteerism are applicable in the context of LMAs. Because of the enormous role that volunteers play in the operations of LMAs, clarity and insight into volunteer characteristics and experiences is imperative. Ultimately, findings will help researchers and resource managers determine the best ways to involve, retain, and manage volunteers.

The primary beneficiaries of results from these surveys will be LMAs, such as the Forest Service, and other agencies at all levels of government that are concerned with enjoyment, preservation, and advancement of our natural resources. These results will be particularly important to LMAs because recently these agencies have become heavily dependent on volunteer support.

Without the proposed information collection, managers of volunteers in LMAs will continue to rely upon anecdotal or unreliable information, which may perpetuate poor volunteer recruitment, retention, and satisfaction. The information collected will help researchers develop and test models of volunteer management; supply information to LMA program managers and other voluntary action managers who are focusing their own work on natural resource management values and objectives; and will facilitate further application of findings. The exact number of respondents will be dependent upon the number of agencies that choose to participate. Volunteers from up to ten different agencies, or sub-units of those agencies, per year will be selected to participate. Each will be allocated 200-600 surveys, for a maximum of 4,000 completed surveys per year for the project as a whole.

Estimate of Annual Burden: 20 minutes.

Type of Respondents: Individuals who currently volunteer, or who have recently volunteered, for a natural resources (land) management agency, age 18 or older.

Estimated Annual Number of Respondents: 4,000.

Estimated Annual Number of Responses per Respondent: 1.

Estimated Total Annual Burden on Respondents: 1,333 hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 10, 2010.
Carlos Rodriguez-Franco,
Acting Deputy Chief, Research and Development.

[FR Doc. 2010-23122 Filed 9-15-10; 8:45 am]

BILLING CODE 3410-11-P